DEPARTMENT OF HEALTH AND HUMAN SERVICES

Administration for Children and Families

Proposed Information Collection Activity: Center for States Evaluation Ancillary Data Collection (Office of Management and Budget #0970-0501)

AGENCY: Administration on Children, Youth and Families, Administration for Children and Families; Department of Health and Human Services.

ACTION: Request for public comments.

SUMMARY: The Administration on Children, Youth and Families, Administration for Children and Families (ACF), U.S. Department of Health and Human Services, is requesting approval for a revision of a currently approved information collection, the Center for States Evaluation Ancillary Data Collection.

DATES: Comments due within 60 days of publication. In compliance with the requirements of section 3506(c)(2)(A) of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Evaluation of the Child Welfare Capacity Building Collaborative, Center for States is sponsored by the ACF Children's Bureau (CB). The purpose of this evaluation is to respond to a set of cross-cutting evaluation questions posed by the CB. This existing information collection is an ancillary part of a larger data collection effort being conducted for the evaluation of the Child Welfare Capacity Building Collaborative. This notice details a group of instruments that are specific only to the Center for States. The instruments focus on (1) evaluating an innovative approach to engaging professionals in networking and professional development through virtual expos, (2) understanding fidelity to and effectiveness of the Center's Capacity Building Model, (3) capturing information about individualized support to jurisdictions, and (4) enhancing the Center's support focused on equity and lived experience. To date, this data collection and resulting findings have been used to (a) assess satisfaction with service delivery and make adjustments to improve quality, (b) support professional development of child welfare professionals through improving the virtual expo experience, particularly during the pandemic, and (c) support provision of effective and high-quality individualized support to jurisdictions.

Annual Burden Estimates
Instrument | Annual number of respondents | Annual number of responses per respondent | Annual average burden hours per response | Total annual burden hours
Child Welfare Virtual Expo Exit Survey | 300 | 1 | 0.083 | 25
Child Welfare Virtual Expo Registration Form | 3,000 | 1 | 0.05 | 150
Jurisdiction Lead Interview | 40 | 1 | 1 | 40
Jurisdiction Lead Observation Debrief Protocol | 25 | 1 | 0.25 | 6
Jurisdiction Lead Survey Related to Lived Experience | 30 | 1 | 0.25 | 8
Outcomes of and Satisfaction with Tailored Services Survey Appended Items (Section 4) | 40 | 1 | 0.05 | 2
Peer Group Focus Group Protocol | 150 | 1 | 1 | 150
Total |  |  |  | 381

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 203 of section II: Adoption Opportunities of the Child Abuse Prevention and Treatment Act (42 U.S.C. 5113).

Molly B. Jones,
ACF/OPRE Certifying Officer.

[FR Doc. 2023-10758 Filed 5-18-23; 8:45 am]

BILLING CODE 4184-01-P